NUCLEAR REGULATORY COMMISSION

[NRC-2011-0006].

Sunshine Federal Register Notice

AGENCY HOLDING THE MEETINGS: Nuclear Regulatory Commission;

DATE: Weeks of October 3, 10, 17, 24, 31, November 7, 2011.

PLACE: Commissioners' Conference Room, 11555 Rockville Pike, Rockville, Maryland.

STATUS: Public and Closed.

Week of October 3, 2011

Thursday, October 6, 2011

9 a.m. Briefing on NRC International Activities (Public Meeting). (Contact: Karen Henderson, 301-415-0202.)

This meeting will be webcast live at the Web address— http://www.nrc.gov.

Week of October 10, 2011—Tentative

Tuesday, October 11, 2011

9 a.m. Briefing on the Japan Near Term Task Force Report—Prioritization of Recommendations (Public Meeting). (Contact: Rob Taylor, 301-415-3172.)

This meeting will be webcast live at the Web address— http://www.nrc.gov.

Wednesday, October 12, 2011

9 a.m. Mandatory Hearing—South Carolina Electric & Gas Company and South Carolina Public Service Authority (Also Referred to as Santee Cooper); Combined Licenses for Virgil C. Summer Nuclear Station, Units 2 and 3 (Public Meeting). (Contact: Rochelle Bavol, 301-415-1651.)

This meeting will be webcast live at the Web address— http://www.nrc.gov.

Thursday, October 13, 2011

9 a.m. Continued from Previous Day—

Mandatory Hearing—South Carolina Electric & Gas Company and South Carolina Public Service Authority (Also Referred to as Santee Cooper); Combined Licenses for Virgil C. Summer Nuclear Station, Units 2 and 3 (Public Meeting). (Contact: Rochelle Bavol, 301-415-1651.)

This meeting will be webcast live at the Web address— http://www.nrc.gov.

Week of October 17, 2011—Tentative

Tuesday, October 18, 2011

9 a.m. Briefing on Browns Ferry Unit 1 (Public Meeting). (Contact: Eugene Guthrie, 404-997-4662.)

This meeting will be webcast live at the Web address— http://www.nrc.gov.

Thursday, October 20, 2011

1:30 p.m. NRC All Employees Meeting (Public Meeting), Marriott Bethesda North Hotel, 5701 Marinelli Road, Rockville, MD 20852.

Week of October 24, 2011—Tentative

There are no meetings scheduled for the week of October 24, 2011.

Week of October 31, 2011—Tentative

Tuesday, November 1, 2011

9 a.m. Briefing on the Fuel Cycle Oversight Program (Public Meeting). (Contact: Margie Kotzalas, 301-492-3550.)

This meeting will be webcast live at the Web address— http://www.nrc.gov.

Week of November 7, 2011—Tentative

There are no meetings scheduled for the week of November 7, 2011.

* The schedule for Commission meetings is subject to change on short notice. To verify the status of meetings, call (recording)—(301) 415-1292. Contact person for more information: Rochelle Bavol, (301) 415-1651.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Bill Dosch, Chief, Work Life and Benefits Branch, at 301-415-6200, TDD: 301-415-2100, or by e-mail at william.dosch@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: September 29, 2011.
Rochelle Bavol,
Policy Coordinator, Office of the Secretary.

[FR Doc. 2011-25683 Filed 9-30-11; 4:15 pm]

BILLING CODE 7590-01-P